DEPARTMENT OF THE INTERIOR

Bureau of Land Management

[ID-300-1020-PH]

Notice of Public Meetings, Idaho Falls District Resource Advisory Council Meeting and Challis OHV Subgroup Meeting

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: Two meetings have been scheduled in September 2006. The first will be a meeting of the Off-Highway Vehicle Subgroup of the RAC, which will be an open house at Challis High School, September 6, 2006 from 7 p.m. to 9 p.m. The purpose of the meeting is for the RAC Subgroup to begin gathering public input that will be given to the BLM Challis Field Office as part of its comprehensive Travel Management Plan. The public is encouraged to attend.

The second meeting in September is the RAC's regularly-scheduled quarterly meeting. This will be held September 19-20, 2006 at the BLM Challis Field Office, 801 Blue Mountain Road in Challis, Idaho. The meeting will begin September 19 at 10 a.m. and will conclude before 5 p.m. the following day. Among the scheduled agenda items are a discussion of the proposed BLM/USFS Recreation RACs in Idaho, a review of the OHV Subgroup's September 6 public meeting, a review of the Upper Snake Field Office's interactions with the Idaho National Laboratory on noxious weeds, and field tours of the Bayhorse Townsite and the Thompson Creek Mine. Transportation for the field tours will be provided for RAC members and BLM staff; other individuals wishing to attend should provide their own transportation.

SUPPLEMENTARY INFORMATION: The 15-member Council advises the Secretary of the Interior, through the Bureau of Land Management, on a variety of planning and management issues associated with public land management in the BLM Idaho Falls District (IFD), which covers eastern Idaho.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: David Howell, RAC Coordinator, Idaho Falls District, 1405 Hollipark Dr., Idaho Falls, ID 83401. Telephone (208) 524-7559. E-mail: David_Howell@blm.gov.

Dated: July 28, 2006.
David Howell,
RAC Coordinator, Public Affairs Specialist.

[FR Doc. E6-12538 Filed 8-2-06; 8:45 am]

BILLING CODE 4310-GG-P